DEPARTMENT OF TRANSPORTATION

Federal Aviation Administration

14 CFR Part 97

[Docket No. 31133; Amdt. No. 3746]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective May 18, 2017. The compliance date for each SIAP, associated Takeoff Minimums, and ODP is specified in the amendatory provisions.

The incorporation by reference of certain publications listed in the regulations is approved by the Director of the Federal Register as of May 18, 2017.

ADDRESSES: Availability of matter incorporated by reference in the amendment is as follows:

For Examination

1. U.S. Department of Transportation, Docket Ops—M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on April 21, 2017.
John S. Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
25-May-17 | MS | Jackson | Hawkins Field | 7/0195 | 4/14/17 | RNAV (GPS) RWY 34, Amdt 2.
25-May-17 | FL | Lake Wales | Lake Wales Muni | 7/0679 | 4/7/17 | RNAV (GPS) RWY 24, Orig.
25-May-17 | FL | Lake Wales | Lake Wales Muni | 7/0680 | 4/7/17 | RNAV (GPS) RWY 6, Orig-A.
25-May-17 | FL | Titusville | Nasa Shuttle Landing Facility | 7/0684 | 4/7/17 | RNAV (GPS) RWY 15, Amdt 1.
25-May-17 | NY | Brockport | Ledgedale Airpark | 7/0696 | 4/7/17 | RNAV (GPS) RWY 28, Amdt 1A.
25-May-17 | GA | Eastman | Heart Of Georgia Rgnl | 7/0700 | 4/7/17 | RNAV (GPS) RWY 20, Amdt 2.
25-May-17 | TN | Lawrenceburg | Lawrenceburg-Lawrence County | 7/0850 | 4/5/17 | RNAV (GPS) RWY 17, Orig-A.
25-May-17 | MD | Westminster | Clearview Airpark | 7/0956 | 4/7/17 | RNAV (GPS) RWY 14, Amdt 1.
25-May-17 | MS | Magee | Magee Muni | 7/1002 | 4/6/17 | RNAV (GPS) RWY 18, Orig.
25-May-17 | MS | Magee | Magee Muni | 7/1005 | 4/6/17 | RNAV (GPS) RWY 36, Orig.
25-May-17 | ME | Dexter | Dexter Rgnl | 7/1487 | 4/6/17 | RNAV (GPS) RWY 16, Orig.
25-May-17 | ME | Dexter | Dexter Rgnl | 7/1488 | 4/6/17 | RNAV (GPS) RWY 34, Orig.
25-May-17 | ME | Sanford | Sanford Seacoast Rgnl | 7/1491 | 4/6/17 | VOR RWY 25, Amdt 14A.
25-May-17 | MS | Laurel | Hesler-Noble Field | 7/3916 | 4/7/17 | RNAV (GPS) RWY 31, Amdt 1.
25-May-17 | MS | Laurel | Hesler-Noble Field | 7/3917 | 4/7/17 | RNAV (GPS) RWY 13, Amdt 1.
25-May-17 | MS | Laurel | Hesler-Noble Field | 7/3918 | 4/7/17 | NDB RWY 13, Amdt 8.
25-May-17 | MS | Corinth | Roscoe Turner | 7/5237 | 4/7/17 | RNAV (GPS) RWY 36, Amdt 1A.
25-May-17 | TN | Memphis | General Dewitt Spain | 7/5263 | 4/5/17 | RNAV (GPS) RWY 17, Orig.
25-May-17 | SC | Laurens | Laurens County | 7/5839 | 4/5/17 | RNAV (GPS) RWY 8, Orig.
25-May-17 | SC | Laurens | Laurens County | 7/5840 | 4/5/17 | RNAV (GPS) RWY 26, Orig.
25-May-17 | MS | Winona | Winona-Montgomery County | 7/6657 | 4/6/17 | RNAV (GPS) RWY 21, Amdt 1.
25-May-17 | MS | Winona | Winona-Montgomery County | 7/6658 | 4/6/17 | RNAV (GPS) RWY 3, Amdt 1.
25-May-17 | SC | Pelion | Lexington County At Pelion | 7/6664 | 4/11/17 | RNAV (GPS) RWY 18, Orig.
25-May-17 | SC | Pelion | Lexington County At Pelion | 7/6665 | 4/11/17 | RNAV (GPS) RWY 36, Orig.
25-May-17 | NY | Fulton | Oswego County | 7/6841 | 4/6/17 | RNAV (GPS) RWY 15, Orig-A.
25-May-17 | TN | Nashville | Nashville Intl | 7/7379 | 4/5/17 | RNAV (RNP) Z RWY 2R, Amdt 2.
25-May-17 | SC | Mount Pleasant | Mt Pleasant Rgnl-Faison Field | 7/7386 | 4/6/17 | RNAV (GPS) RWY 35, Orig-C.
25-May-17 | SC | Mount Pleasant | Mt Pleasant Rgnl-Faison Field | 7/7387 | 4/6/17 | RNAV (GPS) RWY 17, Orig-C.
25-May-17 | MS | Olive Branch | Olive Branch | 7/7391 | 4/5/17 | RNAV (GPS) RWY 18, Amdt 3.
25-May-17 | MS | Olive Branch | Olive Branch | 7/7392 | 4/5/17 | ILS OR LOC RWY 18, Amdt 3.
25-May-17 | MS | Olive Branch | Olive Branch | 7/7393 | 4/5/17 | RNAV (GPS) RWY 36, Amdt 1.
25-May-17 | MS | Olive Branch | Olive Branch | 7/7394 | 4/5/17 | LOC/DME RWY 36, Amdt 1.
25-May-17 | SC | Spartanburg | Spartanburg Downtown Memorial | 7/7467 | 4/5/17 | ILS OR LOC RWY 5, Amdt 1A.
25-May-17 | SC | Spartanburg | Spartanburg Downtown Memorial | 7/7468 | 4/5/17 | RNAV (GPS) RWY 5, Orig.
25-May-17 | SC | Spartanburg | Spartanburg Downtown Memorial | 7/7469 | 4/5/17 | RNAV (GPS) RWY 23, Orig.
25-May-17 | MS | Jackson | Jackson-Medgar Wiley Evers Intl | 7/7651 | 4/5/17 | RNAV (GPS) RWY 34L, Amdt 3.
25-May-17 | MS | Jackson | Jackson-Medgar Wiley Evers Intl | 7/7652 | 4/5/17 | ILS OR LOC RWY 34L, Amdt 6A.
25-May-17 | MS | Jackson | Jackson-Medgar Wiley Evers Intl | 7/7653 | 4/5/17 | RNAV (GPS) RWY 16R, Amdt 2.
25-May-17 | MS | Jackson | Jackson-Medgar Wiley Evers Intl | 7/7654 | 4/5/17 | ILS OR LOC RWY 16L, ILS RWY 16L (SA CAT I), ILS RWY 16L (CAT II and III), Amdt 8.
25-May-17 | MS | Jackson | Jackson-Medgar Wiley Evers Intl | 7/7655 | 4/5/17 | RNAV (GPS) RWY 16L, Amdt 2.
25-May-17 | GA | Greensboro | Greene County Rgnl | 7/7688 | 4/5/17 | LOC RWY 25, Amdt 3C.
25-May-17 | PA | Erie | Erie Intl/Tom Ridge Field | 7/7693 | 4/5/17 | RNAV (GPS) RWY 6, Amdt 1.
25-May-17 | MA | Bedford | Laurence G Hanscom Fld | 7/7794 | 4/5/17 | ILS OR LOC RWY 11, Amdt 26.
25-May-17 | MA | Bedford | Laurence G Hanscom Fld | 7/7795 | 4/5/17 | RNAV (GPS) Z RWY 11, Amdt 1.
25-May-17 | MA | Bedford | Laurence G Hanscom Fld | 7/7796 | 4/5/17 | RNAV (RNP) Y RWY 11, Orig.
25-May-17 | MA | Bedford | Laurence G Hanscom Fld | 7/7797 | 4/5/17 | ILS OR LOC RWY 29, Amdt 7.
25-May-17 | MA | Bedford | Laurence G Hanscom Fld | 7/7798 | 4/5/17 | RNAV (GPS) Z RWY 29, Amdt 1.
25-May-17 | MA | Bedford | Laurence G Hanscom Fld | 7/7799 | 4/5/17 | RNAV (RNP) Y RWY 29, Orig.
25-May-17 | MA | Bedford | Laurence G Hanscom Fld | 7/7800 | 4/5/17 | RNAV (GPS) RWY 23, Orig-A.
25-May-17 | MA | Bedford | Laurence G Hanscom Fld | 7/7801 | 4/5/17 | VOR RWY 23, Amdt 9A.
25-May-17 | TN | Lawrenceburg | Lawrenceburg-Lawrence County | 7/8616 | 4/5/17 | RNAV (GPS) RWY 35, Orig-A.

[FR Doc. 2017-09907 Filed 5-17-17; 8:45 am]

BILLING CODE 4910-13-P